SOCIAL SECURITY ADMINISTRATION

Supplemental Security Income (SSI), Youth Transition Process Demonstration (YTPD)

AGENCY: Social Security Administration.

ACTION: Notice of youth demonstration and SSI waivers.

SUMMARY: The Commissioner of Social Security announces the following demonstration project relating to the Supplemental Security Income (SSI) program under title XVI of the Social Security Act. Under this project, the Social Security Administration (SSA) will test the effectiveness of altering certain SSI program rules as an incentive to encourage SSI recipients with disabilities or blindness to work or increase their work activity and earnings. This project, called the Youth Transition Process Demonstration (YTPD), is being conducted under the authority of section 1110 of the Act. SSA is conducting this project in six states for the purpose of helping youth with disabilities maximize their economic self-sufficiency as they transition from school to work. The projects will work with youth aged 14-25 who receive SSI, Social Security Disability Insurance (SSDI), or Childhood Disability Benefits (CDB) and those at risk of receiving such benefits, including those who have a progressive disability, who have a prognosis for decreased functioning, or who have existing disabling conditions prior to age 18 that would render them eligible except for deemed parental income. SSA is publishing this notice in accordance with 20 CFR 416.250(e).

DATES: The demonstration project will begin with cooperative agreement awards on September 30, 2003. Subject to the availability of funds, the demonstration project will end September 29, 2008.

FOR FURTHER INFORMATION CONTACT: Leola Brooks, Social Security Administration, Office of Program Development and Research, 6401 Security Blvd, 3673 Annex, Baltimore, MD 21235-6401; Phone (410) 965-2219 or through E-mail to leola.brooks@ssa.gov.

SUPPLEMENTARY INFORMATION:

Background

SSI is a federal program administered by SSA. The program is financed from general federal revenue and provides monthly benefit payments to aged, blind, and individuals with disabilities who have limited resources and income. In 2003, the federal benefit rate for an individual is $552 per month and $829 per month for a couple. In addition, many states supplement the federal benefit. The supplementary benefit amounts and the categories of persons eligible for these benefits vary from state to state. In most states, eligibility for SSI means eligibility for Medicaid; the extent of the Medicaid coverage package varies by state. SSI recipients may also be eligible to receive Food Stamps in all states but California and Wisconsin, where the state's supplementary payments are considered to include the value of Food Stamps.

To be eligible, a person must be age 65 or older, or have a severe disability and have limited resources and income, and meet certain other requirements. A person is considered to have a disability if a physical or mental impairment or combination of impairments prevents the person from doing any substantial gainful work and is expected to last for at least 12 months or to result in death. Children, as well as adults, may be eligible. SSA works cooperatively with the states, who are responsible for making disability and blindness determinations through their disability determination services (DDS). SSA takes a detailed medical history from the applicant during the initial interview and sends that information to the DDS. The DDS then secures medical records and, if needed, arranges an additional medical examination. Based upon this evidence, a disability or blindness determination is made.

In addition to age, disability or blindness, an individual or couple must meet resource, income, and residency requirements. In 2003, the resource limits are $2,000 for an individual and $3,000 for a couple. However, not everything that a person owns is counted.

An individual or couple may have earned or unearned income and still may be eligible for the SSI program. A certain amount of income is disregarded in determining eligibility and computing the SSI benefit amount. People who live in a state that supplements the federal payment may have higher amounts of income and still may qualify for some benefits.

To be eligible for SSI, a person must reside in the U.S. or the Northern Mariana Islands and be a U.S. citizen, an alien lawfully admitted for permanent residence, or an alien permanently residing in the U.S. under “color of law” (PRUCOL). PRUCOL is defined in the Code of Federal Regulations at 20 CFR 416.1618.

Description of the YTPD Projects

To further the President's New Freedom Initiative goal of increasing employment of individuals with disabilities, we are conducting a demonstration project, called the Youth Transition Process Demonstration (YTPD), under the authority of section 1110 of the Act. SSA is awarding cooperative agreements to state agencies and universities in six states for five years, subject to the availability of funds, for the purpose of helping youth with disabilities maximize their economic self-sufficiency as they transition from school to work. These projects will focus on youth ages 14-25 who receive SSI, Social Security Disability Insurance (SSDI), Childhood Disability Benefits (CDB), and youth who are at risk of receiving such benefits. The projects are designed to collaborate among federal, state, and local agencies to develop and implement sustainable improvements in the delivery of transition services and supports. The projects will test ways to remove other barriers to employment and economic self-sufficiency.

YTPD Project Sites

SSA is conducting seven YTPD projects in six states. The state, title, description and project sites for each project follow.

California

Title: The Bridges to Youth Self Sufficiency Project (Bridges).

Awardee: State of California Health and Human Services Agency Department of Rehabilitation.

Summary: The Bridges to Youth Self Sufficiency Project (Bridges) will serve youth ages 14-25 who receive SSI, SSDI, or CDB or youth at risk of receiving such benefits. Benefits planning and intensive service coordination are the main services provided by this project. Other specific program components are benefits training and education, outreach to specialized populations, early intervention, local partnering, youth incentives, local and state oversight bodies, and a data driven research study. The categories of outcomes to be measured are employment, education, level of independence, service participation, and quality of life.

Project Sites:

1. Riverside County Office of Education

2. Whittier Union High School District

3. Vallejo City Unified School Districts

4. Capistrano Unified School District/Saddleback Valley Unified School District Consortium

5. Irvine Unified School District/Newport-Mesa Unified School District Consortium

Colorado

Title: Colorado Youth Work Incentive Network of Supports (WINS).

Awardee: JFK Partners of the University of Colorado Health Sciences Center.

Summary: Colorado Youth Work Incentive Network of Supports (WINS) overarching goal is to assist youth, aged 14-25, who are currently receiving or are likely to receive SSI, SSDI, or CDB benefits to maximize their economic self-sufficiency and career advancement. Participants will work with a Transition Team (made up of a Consumer Navigator, Benefits Planner, and a Career Counselor) located in each selected community. The Transition Team, housed at local Workforce Centers, will provide specialized and intensive transition services to youth and their families. This project is designed to ensure that the same Transition Team members will work with youth and their families during high school and after the youth has left high school and entered the workforce. This project will collect comparison data from additional youth to determine the impact the intensive transition services and waivers have on Colorado Youth WINS participants. Comparisons will be made between participants and the control group using both direct collect and administrative data.

Project Sites: Larimer, El Paso/Teller and Pueblo Counties.

Iowa

Title: Smart Start.

Awardee: University of Iowa's Center for Disability and Development, Employment Policy Group.

Summary: Smart Start focuses on supporting the successful transition of students with disabilities from school to employment and economic self-sufficiency by addressing deficiencies and inefficiencies that exist across the system. The project concentrates on coordinating and integrating existing resources (services and benefits) available through local, state, and federal programs including Individuals with Disabilities Education Act (IDEA), Medicaid, Workforce Investment Act, Vocational Rehabilitation, SSI, and Ticket to Work. The purpose of Smart Start is to design and set into motion a system of individualized, comprehensive, and navigable transition-related services that adequately respond to the needs and aspirations of young people with disabilities. By removing customary bureaucratic constraints that impede individual choice and empowerment, Smart Start enables coordination and integration of transition services across multiple agencies by creating a service delivery system that is market driven. This effort presents an opportunity for local, state, and federal agencies to meaningfully engage in cross-departmental risk-sharing efforts. Project participants are students with disabilities enrolled in public schools and young adults with disabilities, formerly enrolled in public schools, who are unemployed (or who are employed but seeking jobs), starting with youth ages 14-25 years old who receive SSI.

Project Sites: Mason City and Waterloo Community School Districts.

Maryland

Title: The Maryland State Department of Education Youth Demonstration Project.

Awardee: Maryland State Department of Education.

Summary: The Maryland State Department of Education Youth Demonstration Project will have dedicated staff to assist the student participants and their families in the development of services and training that leads to employability and the building of a safety net for independence. In each service site there will be a dedicated Department of Rehabilitation Services Counselor, a Consumer Navigator, and a Family Support and Benefits Coordinator. Areas to be addressed include transportation, independent living, health care, and benefits planning before exiting school. The partnership with the One Stop will allow students, with the guidance of the Consumer Navigator, to develop those life skills needed for employment. As a result of participation in this project, students with disabilities will be better prepared for life choices at the completion of their public school educational program. Participating students will be more prepared for adulthood by obtaining the skills and the service agency linkages to move from dependence to independence. All participating students will receive the benefits of earlier involvement with the Division of Rehabilitation Services (DORS) and other employment support services.

Project Sites:

Maryland Schools for the Blind, Baltimore County, Wicomico County

Mississippi

Title: The Mississippi Youth Transition Innovations Project (MYTI).

Awardee: Mississippi Department of Rehabilitation Services (MDRS).

Summary: The Mississippi Youth Transition Innovations Project (MYTI) will serve youth ages 10-25 who receive SSI, SSDI, CDB, or youth at risk of receiving such benefits. MYTI will address the following issues: (a) The need for development of a model transition process that will facilitate optimal passage from school to work; (b) The elimination of barriers when feasible to effect transition at the local, state, and federal levels through interagency collaboration and elimination of policies, procedures, regulations, and statutory requirements that impede progress; and, (c) The development of natural and new/innovative supports at all levels as needed. The MYTI Project will be based upon individual person-centered planning, including the use of individual training accounts involving prospective employer buy-in to pre-career development, such as training opportunities required to earn an Occupational Diploma. As issues arise that impede the ability to accomplish this, local-level Transition Specialists will address these on an individualized basis and, if necessary, bring them to the state-level Coordination Council to facilitate barrier removal. In the final year in the local school system, participants will be referred to the appropriate MDRS program for vocational rehabilitation, supported employment, and independent living services. The program will be evaluated in terms of progress and outcome variables. Participation analysis will compare the experiences of the project group with a similar group of students with disabilities who did not receive project services.

Project Sites: Gulfport City and Harrison County Schools in years 1-3 and then add the Durant Public School in year 4.

New York

Title: Transition WORKS.

Awardee: Erie 1 Board of Cooperative Educational Services (BOCES) with the Office of Vocational and Educational Services for Individuals with Disabilities, New York State Department of Education.

Summary: Transition WORKS project is designed to increase the post-school transition success experienced by youth and young adults ages 14-25 who receive SSI, SSDI or CDB or youth at risk of receiving such benefits. Transition WORKS proposes to provide a comprehensive, collaborative transition planning and services model comprised of the most effective, research-based transition practices. A research design will test the efficacy of the component services and statistically test several hypotheses regarding transition services. The project will provide student- and family-centered planning for all participants (in and out-of-school), coordination of services, parent and family education and support, benefits advisement and work incentives advisement in addition to waivers of SSA regulations, and participation in career exploration activities as well as community-based work experiences. Youth with potential for postsecondary education will receive assistance to plan for and to enter and participate successfully in postsecondary education.

Project Site: Erie County.

Title: CUNY's Youth Transition Demonstration Project.

Awardee: City University of New York.

Summary: CUNY's Youth Transition Demonstration Project is designed to prepare youth aged 16-19, who receive SSI benefits, to achieve economic self-sufficiency. The project plans to increase coordination among public agencies and private organizations that have resources, funding, and a mandate to provide transition services. As a forum to deliver transition services, integrate systems and tap resources, the project will convene an annual, four-week, Summer Institute for participating youth. There will be a variety of workshops, information sessions, and professional development seminars to support transition. All students will be trained in self-determination skills. Tutoring in basic skills, vocational assessments, benefits counseling, and work-based learning will also be provided. College students with disabilities will serve as peer mentors. Year round activities will include student self-advocacy groups, parent support groups, and a four-course, twelve-credit Certificate in Transition Services for school personnel, staff at public and private agencies, as well as parents and CUNY students. The project will be evaluated by comparing the progress the experimental group makes, versus the control group, in completing specific and objective milestones in the transition process.

Project Site: Bronx County.

Alternative SSI Program Rules that Apply to Participants in the YTPD

Section 1110(b) of the Act authorizes the Commissioner of Social Security to waive any requirements of title XVI of the Act necessary to carry out demonstrations that, in the Commissioner's judgment, are likely to promote the objectives or facilitate the administration of the SSI program.

The following alternative SSI program rules will apply to certain project participants who receive SSI benefits or a combination of SSI and SSDI benefits.

1. Despite the finding of a continuing disability review conducted in accordance with section 221(i) or section 1614(a)(3)(H) of the Act or an age-18 medical redetermination conducted in accordance with section 1614(a)(3)(I) of the Act that an individual is no longer eligible for benefits, SSA will continue paying benefits for as long as the individual continues to be a YTPD participant.

2. The student earned-income exclusion (section 1612(b)(1) of the Act), which normally applies only to students who are age 21 or younger and neither married nor the head of a household (20 CFR 416.1866) will apply to all participants who meet school attendance requirements, without regard to their age or whether they are married or the head of a household.

3. The general earned-income exclusion (section 1612(b)(4)) normally permits the exclusion of $65 plus half of what an individual earns in excess of $65. For the YTPD, SSA will exclude the first $65 plus three-fourths of any additional earnings.

4. SSA will extend the SSI program's treatment of federally supported individual development accounts (IDAs) (section 404(h) of the Act) to IDAs that do not involve federal funds.

An IDA is a trust-like savings account. Except for certain emergencies, funds in a federally supported IDA can be used only for going to college, buying a first home, or starting a business. The individual makes deposits from his or her earned income. The individual's contributions are matched, at rates that can vary from 1:1 to 8:1, usually depending on the availability of funding.

Social Security excludes federally-supported IDAs when it determines whether someone's resources exceed the SSI limit. It also excludes matching contributions when it determines countable income. Further, Social Security deducts the beneficiary's own deposits from countable income, so that SSI benefits replace the amount deposited. As a result, an SSI beneficiary does not have to divert scarce resources from living expenses in order to save.

Nonfederally supported IDA or “IDA-like” programs have emerged in a number of states. These programs usually permit an individual to save for one or more purposes in addition to the three mentioned above, such as transportation. The exclusions that apply to federally-supported IDAs normally do not extend to these programs.

5. Ordinarily, a plan for achieving self-support (PASS) must specify an employment goal (section 1633(d) of the Act), which refers to getting a particular kind of job or starting a particular business. For the YTPD, SSA will approve an otherwise satisfactory PASS that has either career exploration or postsecondary education as its goal. If the goal is postsecondary education, the PASS must provide for developing a work goal at least one year prior to completion of the degree requirements.

Income that an individual uses for PASS expenses does not count when SSA determines SSI eligibility and payment amount. Assets that an individual uses for PASS expenses do not count as resources when SSA determines SSI eligibility.

Evaluation

The seven YTPD projects will collect data for each participant regarding identifying information, educational and vocational background, services provided, education/work attempts, and outcomes and use of the alternative SSI program rules. Each YTPD project will use the data to evaluate the effectiveness of alternative SSI program rules. In addition, SSA will award a separate contract to evaluate the overall success of the YTPD, aid YTPD projects in their evaluation activities, conduct a process evaluation, and assess cost-effectiveness. The evaluation contractor is to conduct a net-outcomes and process evaluation which will provide information on the effectiveness of interventions, including the effectiveness of alternative SSI program rules, and the feasibility of using different types of comparison groups. It also will collect the project-level data and prepare methodology for measuring transition services and adult outcomes for youth with disabilities.

Dated: September 25, 2003.
Jo Anne B. Barnhart,
Commissioner of Social Security.

[FR Doc. 03-25194 Filed 10-6-03; 8:45 am]

BILLING CODE 4191-02-P